DEPARTMENT OF AGRICULTURE

Agricultural Marketing Service

7 CFR Part 920

[Doc. No. AMS-SC-18-0060; SC18-920-1 C]

Kiwifruit Grown California; Decreased Assessment Rate

AGENCY: Agricultural Marketing Service, USDA.

ACTION: Final rule; correcting amendment.

SUMMARY: U.S. Department of Agriculture published a final rule on December 26, 2018, to implement a recommendation from the Kiwifruit Administrative Committee (Committee) to decrease the assessment rate established for the 2018-2019 and subsequent fiscal periods. This correction addresses a typographical error in that final rule.

DATES: Effective March 20, 2019.

FOR FURTHER INFORMATION CONTACT: Maria Stobbe, Marketing Specialist, or Terry Vawter, Regional Director, California Marketing Field Office, Marketing Order and Agreement Division, Specialty Crops Program, AMS, USDA; Telephone: (559) 487-5901, Fax: (559) 487-5906, or Email: Maria.Stobbe@usda.gov or Terry.Vawter@usda.gov.

SUPPLEMENTARY INFORMATION: The U.S. Department of Agriculture (USDA) published a final rule in the Federal Register on December 26, 2018, implementing a recommendation from the Committee to decrease the assessment rate established for the 2018-2019 and subsequent fiscal periods. This correction addresses a typographical error in Amendment 2 of the final rule, which referenced § 925.213, when the correct reference should have been § 920.213. Therefore, USDA is issuing this correction to amend the CFR to reflect the proper section number for § 920.213, which was incorrect in the final rule published on December 26, 2018 (83 FR 66077).

List of Subjects in 7 CFR Part 920

Kiwifruit, Marketing agreements, Reporting and recordkeeping requirements.

For the reasons set forth in the preamble, 7 CFR part 920 is amended by making the following correcting amendment:

PART 920—KIWIFRUIT GROWN IN CALIFORNIA

1. The authority citation for part 920 continues to read as follows:

Authority: 7 U.S.C. 601-674.

2. In part 920, the section heading for § 920.213, currently listed incorrectly as § 925.213, is revised to read as follows:

§ 920.213 Assessment rate.

* * * * *

Dated: March 12, 2019.
Bruce Summers,
Administrator, Agricultural Marketing Service.

[FR Doc. 2019-04908 Filed 3-19-19; 8:45 am]

BILLING CODE 3410-02-P